DEPARTMENT OF THE INTERIOR

Minerals Management Service

Notice of Availability of the Proposed Notice of Sale for Outer Continental Shelf (OCS) Oil and Gas Lease Sale 224 in the Eastern Planning Area (EPA) in the Gulf of Mexico

AGENCY: Minerals Management Service, Interior.

ACTION: Notice of availability of the proposed Notice of Sale for proposed sale 224.

SUMMARY: The MMS announces the availability of the proposed Notice of Sale for proposed Sale 224 in the EPA. This notice is published pursuant to 30 CFR 256.29(c) as a matter of information to the public. With regard to oil and gas leasing on the OCS, the Secretary of the Interior, pursuant to section 19 of the OCS Lands Act, provides the affected States the opportunity to review the proposed Notice. The proposed Notice sets forth the proposed terms and conditions of the sale, including minimum bids, royalty rates, and rentals.

DATES: Comments on the size, timing, or location of proposed Sale 224 are due from the affected States within 60 days following their receipt of the proposed Notice. The final Notice of Sale will be published in the Federal Register at least 30 days prior to the date of bid opening. Bid opening is currently scheduled for March 19, 2008.

SUPPLEMENTARY INFORMATION: The proposed Notice of Sale for Sale 224 and a “Proposed Sale Notice Package” containing information essential to potential bidders may be obtained from the Public Information Unit, Gulf of Mexico Region, Minerals Management Service, 1201 Elmwood Park Boulevard, New Orleans, Louisiana 70123-2394. Telephone: (504) 736-2519.

Dated: October 23, 2007.
Randall B. Luthi,
Director, Minerals Management Service.

[FR Doc. E7-21278 Filed 10-29-07; 8:45 am]

BILLING CODE 4310-MR-P